DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of October 19, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Butler County, Ohio and Incorporated Areas Docket Nos.: FEMA-B-1434 and FEMA-B-1634
City of Fairfield | City Hall, 5350 Pleasant Avenue, Fairfield, OH 45014.
City of Hamilton | Department of Community Development, Planning Division, 345 High Street, Suite 370, Hamilton, OH 45011.
City of Middletown | City Hall, One Donham Plaza, Middletown, OH 45042.
City of Monroe | City Hall, 233 South Main Street, Monroe, OH 45050.
City of Oxford | City Hall, Building Department, 101 East High Street, Oxford, OH 45056.
City of Trenton | City Hall, 11 East State Street, Trenton, OH 45067.
Unincorporated Areas of Butler County | Butler County Administrative Center, Building and Zoning Department, 130 High Street, 1st Floor, Hamilton, OH 45011.
Village of Millville | Village Hall, 2860 Ross Hanover Road, Millville, OH 45013.
Village of New Miami | Village Hall, 268 Whitaker Avenue, New Miami, OH 45011.
Village of Seven Mile | Village Hall, 201 High Street, Seven Mile, OH 45062.
Tuscarawas County, Ohio and Incorporated Areas Docket No.: FEMA-B-1704
Unincorporated Areas of Tuscarawas County | Tuscarawas County Administrative Offices, 125 East High Avenue, New Philadelphia, OH 44663.
Washington County, Oregon and Incorporated Areas Docket No.: FEMA-B-1710
City of Beaverton | Community Development Department, 12725 Southwest Millikan Way, Beaverton, OR 97005.
City of Forest Grove | City Hall, 1924 Council Street, Forest Grove, OR 97116.
City of Hillsboro | Civic Center, 150 East Main Street, Hillsboro, OR 97123.
City of King City | City Hall, 15300 Southwest 116th Avenue, King City, OR 97224.
City of North Plains | City Hall, 31360 Northwest Commercial Street, North Plains, OR 97133.
City of Sherwood | City Hall, 22560 Southwest Pine Street, Sherwood, OR 97140.
City of Tigard | City Hall, 13125 Southwest Hall Boulevard, Tigard, OR 97223.
City of Tualatin | City Hall, 18880 Southwest Martinazzi Avenue, Tualatin, OR 97062.
Unincorporated Areas of Washington County | County Public Services Building, 155 North First Avenue, Suite 350, Hillsboro, OR 97124.

[FR Doc. 2018-18832 Filed 8-29-18; 8:45 am]

BILLING CODE 9110-12-P